DEPARTMENT OF ENERGY

Federal Energy Regulatory Commission

Combined Notice of Filings #1

Take notice that the Commission received the following electric corporate filings:

Docket Numbers: EC16-63-000.

Applicants: High Lonesome Mesa, LLC.

Description: Application for authorization for disposition of jurisdictional facilities under Section 203 of the FPA of High Lonesome Mesa, LLC.

Filed Date: 1/27/16.

Accession Number: 20160127-5586.

Comments Due: 5 p.m. ET 2/17/16.

Take notice that the Commission received the following exempt wholesale generator filings:

Docket Numbers: EG16-41-000.

Applicants: Horse Creek Wind, LLC.

Description: Self-Certification of EWG Status of Horse Creek Wind, LLC.

Filed Date: 1/27/16.

Accession Number: 20160127-5585.

Comments Due: 5 p.m. ET 2/17/16.

Take notice that the Commission received the following electric rate filings:

Docket Numbers: ER10-1484-014.

Applicants: Shell Energy North America (US), L.P.

Description: Notice of Non-Material Change in Status of Shell Energy North America (US), L.P.

Filed Date: 1/27/16.

Accession Number: 20160127-5604.

Comments Due: 5 p.m. ET 2/17/16.

Docket Numbers: ER10-1946-012; ER11-3861-012; ER13-1485-006; ER10-3253-006; ER14-1777-005; ER10-3237-006; ER10- 3240- 006; ER10-3230-006; ER10-3231-005; ER15-2722-002; ER10-3232-005; ER10-3233-005; ER10-3239-006; ER14-2871-008; ER16-182-003; ER10- 3243-009; ER10-3244-010; ER10-3245-008; ER10-3249-008; ER10-3250-008; ER10-3251-008; ER14-2382-008; ER15-621-007; ER11-2639-008; ER15-622-007; ER15-463-007; ER16-72-003; ER15-110-007; ER13-1586-009; ER10-1992-015.

Applicants: Broad River Energy LLC, Empire Generating Co, LLC, Wheelabrator Baltimore, L.P., Wheelabrator Bridgeport, L.P., Wheelabrator Falls Inc., Wheelabrator Frackville Energy Company Inc., Wheelabrator North Andover Inc., Wheelabrator Portsmouth Inc., Wheelabrator Ridge Energy Inc., Wheelabrator Saugus Inc., Wheelabrator Shasta Energy Company Inc., Wheelabrator South Broward Inc., Wheelabrator Westchester, L.P., Cameron Ridge, LLC, Cameron Ridge II, LLC, Chandler Wind Partners, LLC, Coso Geothermal Power Holdings, LLC, Foote Creek II, LLC, Foote Creek III, LLC, Foote Creek IV, LLC, Oak Creek Wind Power, LLC, ON Wind Energy LLC, Pacific Crest Power, LLC, Ridge Crest Wind Partners, LLC, Ridgetop Energy, LLC, San Gorgonio Westwinds II, LLC, San Gorgonio Westwinds II—Windustries, LLC, Terra-Gen Energy Services, LLC, TGP Energy Management, LLC, Victory Garden Phase IV, LLC.

Description: Notice of Change in Status of the ECP MBR Sellers.

Filed Date: 1/27/16.

Accession Number: 20160127-5606.

Comments Due: 5 p.m. ET 2/17/16.

Docket Numbers: ER14-1264-000.

Applicants: Entergy Louisiana, LLC.

Description: Report Filing: ELL Refund Report ER14-1264 to be effective N/A.

Filed Date: 1/27/16.

Accession Number: 20160127-5464.

Comments Due: 5 p.m. ET 2/17/16.

Docket Numbers: ER14-1265-000.

Applicants: Entergy Mississippi, Inc.

Description: Report Filing: EMI Refund Report ER14-1265 to be effective N/A.

Filed Date: 1/27/16.

Accession Number: 20160127-5466.

Comments Due: 5 p.m. ET 2/17/16.

Docket Numbers: ER14-1266-000.

Applicants: Entergy New Orleans, Inc.

Description: Report Filing: ENOI Refund Report ER14-1266 to be effective N/A.

Filed Date: 1/27/16.

Accession Number: 20160127-5468.

Comments Due: 5 p.m. ET 2/17/16.

Docket Numbers: ER14-1267-000.

Applicants: Entergy Texas, Inc.

Description: Report Filing: ETI Refund Report ER14-1267 to be effective N/A.

Filed Date: 1/27/16.

Accession Number: 20160127-5472.

Comments Due: 5 p.m. ET 2/17/16.

Docket Numbers: ER15-2129-001.

Applicants: Slate Creek Wind Project, LLC.

Description: Notice of Non-Material Change in Status of Slate Creek Wind Project, LLC.

Filed Date: 1/27/16.

Accession Number: 20160127-5592.

Comments Due: 5 p.m. ET 2/17/16.

Docket Numbers: ER15-2676-002; ER15-2477-002; ER16-90-002.

Applicants: Cedar Bluff Wind, LLC, Golden Hills Wind, LLC, Golden Hills Interconnection, LLC.

Description: Notice of Non-material Change in Status of Cedar Bluff Wind, LLC, et. al.

Filed Date: 1/27/16.

Accession Number: 20160127-5594.

Comments Due: 5 p.m. ET 2/17/16.

Docket Numbers: ER15-2680-003; ER15-1896-005; ER15-1582-006; ER15-1579-005; ER15-1914-007; ER15-2679-003; ER15-760-006; ER15-762-007.

Applicants: Sandstone Solar LLC, Eden Solar, LLC, 65HK 8me LLC, 67RK 8me LLC, 87RL 8me LLC, Latigo Wind Park, LLC, Western Antelope Blue Sky Ranch A LLC, Sierra Solar Greenworks LLC.

Description: Notice of Non-Material Change in Status of Sandstone Solar LLC, et. al.

Filed Date: 1/28/16.

Accession Number: 20160128-5105.

Comments Due: 5 p.m. ET 2/18/16.

Docket Numbers: ER16-228-001.

Applicants: Southwest Power Pool, Inc.

Description: Compliance filing: 3113 Basin & MDU Attachment AO Compliance Filing to be effective 10/1/2015.

Filed Date: 1/27/16.

Accession Number: 20160127-5431.

Comments Due: 5 p.m. ET 2/17/16.

Docket Numbers: ER16-323-002.

Applicants: Ohio Valley Electric Corporation.

Description: Compliance filing: Response to Request for Information and Amendment to Application to be effective 3/28/2016.

Filed Date: 1/27/16

Accession Number: 20160127-5427.

Comments Due: 5 p.m. ET 2/17/16.

Docket Numbers: ER16-435-001.

Applicants: Wabash Valley Power Association, Inc.

Description: Tariff Amendment: Wabash Valley Power Association, Inc. Reactive Rate Schedule Volume No. 3 to be effective 2/1/2016.

Filed Date: 1/28/16.

Accession Number: 20160128-5044.

Comments Due: 5 p.m. ET 2/18/16.

Docket Numbers: ER16-468-001.

Applicants: FTS Master Tenant 1, LLC.

Description: Notice of Non-Material Change in Status of FTS Master Tenant 1, LLC.

Filed Date: 1/28/16.

Accession Number: 20160128-5099.

Comments Due: 5 p.m. ET 2/18/16.

Docket Numbers: ER16-474-001.

Applicants: Central Antelope Dry Ranch C LLC.

Description: Notice of Non-Material Change in Status of Central Antelope Dry Ranch C LLC.

Filed Date: 1/28/16.

Accession Number: 20160128-5098.

Comments Due: 5 p.m. ET 2/18/16.

Docket Numbers: ER16-792-000.

Applicants: New Harquahala Generating Company, LLC.

Description: § 205(d) Rate Filing: New Harquahala Revised MBR Tariff per 35.13(a)(2)(iii) to be effective 3/28/2016.

Filed Date: 1/27/16.

Accession Number: 20160127-5479.

Comments Due: 5 p.m. ET 2/17/16.

Docket Numbers: ER16-793-000.

Applicants: Talen Montana, LLC.

Description: § 205(d) Rate Filing: Talen Montana Revised MBR Tariff per 35.13(a)(2)(iii) to be effective 3/28/2016.

Filed Date: 1/27/16.

Accession Number: 20160127-5484.

Comments Due: 5 p.m. ET 2/17/16.

Docket Numbers: ER16-794-000.

Applicants: Entergy Louisiana, LLC.

Description: § 205(d) Rate Filing: ELL-SRMPA 7th Extension of Interim Agreement to be effective 2/1/2016.

Filed Date: 1/27/16.

Accession Number: 20160127-5487.

Comments Due: 5 p.m. ET 2/17/16.

Docket Numbers: ER16-795-000.

Applicants: Talen Energy Marketing, LLC.

Description: § 205(d) Rate Filing: Talen Energy Marketing Revised MBR Tariff per 35.13(a)(2)(iii) to be effective 3/28/2016.

Filed Date: 1/28/16.

Accession Number: 20160128-5000.

Comments Due: 5 p.m. ET 2/18/16.

Docket Numbers: ER16-796-000.

Applicants: Portland General Electric Company.

Description: § 205(d) Rate Filing: Att K Fourth Regional Compliance Filing—Refile to be effective 1/1/2016.

Filed Date: 1/28/16.

Accession Number: 20160128-5089.

Comments Due: 5 p.m. ET 2/18/16.

Docket Numbers: ER16-797-000.

Applicants: PJM Interconnection, L.L.C.

Description: § 205(d) Rate Filing: Amendment to WMPA SA No. 3452, Queue No. Y1-020 due to Assignment to be effective 8/8/2013.

Filed Date: 1/28/16.

Accession Number: 20160128-5132.

Comments Due: 5 p.m. ET 2/18/16.

Docket Numbers: ER16-798-000.

Applicants: Wisconsin Electric Power Company.

Description: Tariff Cancellation: Cancellation Wisconsin Electric WPPI FERC Rate Schedule No 90 to be effective 1/1/2016.

Filed Date: 1/28/16.

Accession Number: 20160128-5134.

Comments Due: 5 p.m. ET 2/18/16.

Docket Numbers: ER16-799-000.

Applicants: Midcontinent Independent System Operator, Inc.

Description: § 205(d) Rate Filing: 2016-01-28_Schedule 31 Annual Update to be effective 4/1/2016.

Filed Date: 1/28/16.

Accession Number: 20160128-5135.

Comments Due: 5 p.m. ET 2/18/16.

Take notice that the Commission received the following electric securities filings:

Docket Numbers: ES16-21-000.

Applicants: AEP Appalachian Transmission Company, Inc., AEP Indiana Michigan Transmission Company, Inc., AEP Kentucky Transmission Company, Inc, AEP Oklahoma Transmission Company, Inc., AEP Southwestern Transmission Company, Inc., AEP West Virginia Transmission Company, Inc.

Description: Application under Section 204 of the Federal Power Act for Authorization to Issue Securities of AEP Appalachian Transmission Company, Inc.

Filed Date: 1/27/16.

Accession Number: 20160127-5605.

Comments Due: 5 p.m. ET 2/17/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 28, 2016.
Nathaniel J. Davis, Sr.,
Deputy Secretary.

[FR Doc. 2016-01950 Filed 2-2-16; 8:45 am]

BILLING CODE 6717-01-P